DEPARTMENT OF STATE

[Public Notice 11147]

Notice of Department of State Sanctions Actions Pursuant to Executive Order 13894 of October 14, 2019, Blocking Property and Suspending Entry of Certain Persons Contributing to the Situation in Syria

SUMMARY: The Secretary of State imposed sanctions on fifteen individuals pursuant to E.O. 13894, Blocking Property and Suspending Entry of Certain Persons Contributing to the Situation in Syria.

DATES: The Secretary of State's determination and selection of certain sanctions to be imposed upon the one individual identified in the SUPPLEMENTARY INFORMATION section are effective on June 17, 2020.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 2(a) of E.O. 13894, the Secretary of State, in consultation with the Secretary of the Treasury, the Secretary of Commerce, the Secretary of Homeland Security, and the United States Trade Representative, and with the President of the Export-Import Bank, the Chairman of the Board of Governors of the Federal Reserve System, and other agencies and officials as appropriate, is authorized to impose on a person any of the sanctions described in sections 2(b) and 2(c) of E.O. 13894 upon determining that the person met any criteria set forth in section 2(a)(i)(A), 2(a)(i)(D), or 2(a)(ii) of E.O. 13894.

The Secretary of State has determined, pursuant to Section 2(a)(i)(A) of E.O. 13894, that Bashar al-Assad, Maher al-Assad, Ghassan Bilal, Samer al-Dana, and the Fourth Division of the Syrian Arab Army are responsible for or complicit in, have directly or indirectly engaged in, attempted to engage in, or financed, the obstruction, disruption, or prevention of a ceasefire in northern Syria.

The Secretary of State determined, pursuant to Section 2(a)(i)(D) of E.O. 13894, that Mohamed Hamsho and the Fatemiyoun Division are responsible for or complicit in, have directly or indirectly engaged in, attempted to engage in, or financed, the obstruction, disruption, or prevention of efforts to promote a political solution to the conflict in Syria.

The Secretary of State determined, pursuant to Section 2(a)(ii) of E.O. 13894, that Asma al-Assad, and Bushra al-Assad are adult family members of Bashar al-Assad; Manal al-Assad is an adult family member of Maher al-Assad; and Ahmed Hamsho, Amre Hamsho, Ali Hamsho, Rania al-Dabbas, and Sumaia Hamcho are adult family members of Mohamed Hamsho.

Pursuant to Sections 2(b) and 2(c) of E.O. 13894, the Secretary of State has selected the following sanctions to be imposed upon Bashar al-Assad, Asma al-Assad, Bushra al-Assad, Maher al-Assad, Ghassan Bilal, Samer al-Dana, Manal al-Assad, the Fourth Division of the Syrian Arab Army, Mohamed Hamsho, Ahmed Hamsho, Amre Hamsho, Ali Hamsho, Rania al-Dabbas, Sumaia Hamcho, and the Fatemiyoun Division:

• Agencies shall not procure, or enter into a contract for the procurement of, any goods or services from the individuals and entities. (Section 2(b)(i) of E.O. 13894);

• prohibit any United States financial institution that is a U.S. person from making loans or providing credits to the individuals and entities totaling more than $10,000,000 in any 12-month period, unless the individuals and entities are engaged in activities to relieve human suffering and the loans or credits are provided for such activities (Section 2(c)(i) of E.O. 13894);

• prohibit any transactions in foreign exchange that are subject to the jurisdiction of the United States and in which the individuals and entities have any interest (Section 2(c)(ii) of E.O. 13894);

• prohibit any transfers of credit or payments between banking institutions or by, through, or to any banking institution, to the extent that such transfers or payments are subject to the jurisdiction of the United States and involve any interest of the individuals and entities (Section 2(c)(iii) of E.O. 13894);

• block all property and interests in property that are in the United States, that hereafter come within the United States, or that are or hereafter come within the possession or control of any United States person of the individuals and entities, and provide that such property and interests in property may not be transferred, paid, exported, withdrawn, or otherwise dealt in (Section 2(c)(iv) of E.O. 13894);

• prohibit any United States person from investing in or purchasing significant amounts of equity or debt instruments of the individuals and entities (Section 2(c)(v) of E.O. 13894); and

• restrict or prohibit imports of goods, technology, or services, directly or indirectly, into the United States from the individuals and entities (Section 2(c)(vi) of E.O. 13894).

Taylor V. Ruggles,
Director, Office of Economic Sanctions Policy and Implementation, Bureau of Economic and Business Affairs, Department of State.

[FR Doc. 2020-13806 Filed 6-25-20; 8:45 am]

BILLING CODE 4710-07-P